DEPARTMENT OF ENERGY

Federal Energy Regulatory Commission

[Docket No. IC10-555-000]

Commission Information Collection Activities (FERC-555); Comment Request; Extension

September 16, 2010.

AGENCY: Federal Energy Regulatory Commission, Energy.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due November 22, 2010.

ADDRESSES: Comments may be filed either electronically (eFiled) or in paper format, and should refer to Docket No. IC10-555-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at http://www.ferc.gov/docs-filing/elibrary.asp, by searching on Docket No. IC10-555. For user assistance, contact FERC Online Support by e-mail at ferconlinesupport@ferc.gov, or by phone at: (866) 208-3676 (toll-free), or (202) 502-8659 for TTY.

FOR FURTHER INFORMATION Ellen Brown may be reached by e-mail at DataClearance@FERC.gov, telephone at (202) 502-8663, and fax at (202) 273-0873.

SUPPLEMENTARY INFORMATION: The information collected under the requirements of FERC-555, “Records Retention Requirements” (OMB No. 1902-0098), is used by the Commission to carry out its responsibilities in implementing the statutory provisions of sections 301, 304 and 309 of the Federal Power Act (FPA) (16 U.S.C. 825, 825c and 825h), sections 8, 10 and 16 of the Natural Gas Act (NGA) (15 U.S.C. 717-717w), and section 20 of the Interstate Commerce Act (ICA, 49 U.S.C. 20).

The regulations for preservation of records establish retention periods, necessary guidelines, and requirements for retention of applicable records for the regulated public utilities, natural gas and oil pipeline companies subject to the Commission's jurisdiction. These records will be used by the regulated companies as the basis for their required rate filings and reports for the Commission. In addition, the records will be used by the Commission's audit staff during compliance reviews, by enforcement staff during investigations, and for special analyses as deemed necessary by the Commission.

On January 8, 1999 the Commission issued AI99-2-000, an Accounting Issuance providing guidance on records storage media. Specifically, FERC gave each jurisdictional company the flexibility to select its own storage media. The storage media selected must have a life expectancy equal to the applicable record period unless the quality of the data transferred from one media to another with no loss of data would exceed the record period.

On January 27, 2000, FERC issued a final rule amending its records retention regulations for public utilities and licensees, and natural gas and oil pipeline companies. These changes included revising the general instructions, and shortening various records retention periods. The final rule's objective was to reduce or eliminate burdensome and unnecessary regulatory requirements.

It has been more than ten years since the issuance of the final rule and the accounting guidance, and, it is expected that jurisdictional companies have experienced more than sufficient time to implement these provisions. No additional changes have been made to the record retention requirements specified under FERC-555. The Commission implements these filing requirements in the Code of Federal Regulations (CFR) under 18 CFR Parts 125, 225, and 356.

Action: The Commission is requesting a three-year extension of the current expiration date, with no changes to the existing collection of data.

Burden Statement: In order to obtain a more accurate burden figure, Commission staff asked a small number of FERC-555 respondents to estimate the burden imposed by this data collection. The results show that the record retention requirements under FERC-555 were underestimated in the previous renewal of this information collection.¹ The following table portrays the updated burden estimate based on industry responses:

¹ The previous estimate reported average burden hours per response and total burden hours as 2,402 and 1,237,030 respectively (for the 515 respondents). Further, the previous estimate reported the average annual cost per respondent and total annual cost as $141,045 and $72,638,045 respectively.

FERC data collection | Number of respondents annually (1) | Average Number of responses per respondent (2) | Average burden hours per response ² (3) | Total annual burden hours (1)×(2)×(3)
FERC-555 | 475 | 1 | 4,968 | 2,359,800
² Record retention burden differs greatly by the size of the company and this figure captures an average across all jurisdictional companies. Thus a small company may require fewer than 1,000 hours per year to comply while a large company may require more than 10,000 hours per year to comply.

The estimated total annual cost burden to respondents includes labor costs associated with record retention ($65,597,025) and both electronic and non-electronic record storage costs ($72,400,925). The total annual cost is $137,997,950; the total annual cost per respondent is $290,522.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Kimberly D. Bose,
Secretary.

[FR Doc. 2010-23684 Filed 9-21-10; 8:45 am]

BILLING CODE 6717-01-P